DEPARTMENT OF LABOR

Bureau of International Labor Affairs; Proposed Collection: Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the International Labor Affairs Bureau is soliciting comments concerning the proposed collection regarding the international child labor technical assistance program of the Office of Child Labor, Forced Labor, and Human Trafficking (OCFT). A copy of the proposed information collection request can be obtained by contacting the office listed below in the addresses section of this Notice.

DATES: Written comments must be submitted to the office listed in the address section below on or before June 9, 2008.

ADDRESSES: Ms. Maureen Jaffe, U.S. Department of Labor, 200 Constitution Avenue, NW., Room S-5317, Washington, DC 20210, telephone (202) 693-4848, fax (202) 693-4830, e-mail jaffe.maureen@dol.gov. Please use only one method of transmission for comments (mail, fax, or e-mail). The telephone and fax numbers listed here are not toll free.

SUPPLEMENTARY INFORMATION:

I. Background

Since 1995, Congress has provided $660 million to the Department of Labor for efforts to combat exploitive child labor internationally. This funding has been used to support technical cooperation projects in more than 75 countries implemented by over 30 international, nonprofit, for-profit and faith-based organizations. Technical cooperation projects funded by DOL aim to remove and prevent children from exploitive child labor, increase the capacity of foreign governments and civil society organizations to combat exploitive child labor, and to increase public knowledge and understanding of the problem. This is a new data collection that will provide critical information for an evaluation of the impact and effectiveness of OCFT's technical cooperation program. The collection will gather information relating to the issues of program purpose, strategic planning, program management, and program results.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks comments concerning the proposed new collection. A contractor has been hired to conduct the evaluation of OCFT's child labor technical assistance program and will collect qualitative and quantitative information. The data will be collected through on-site interviews, focus groups, and an e-mail survey.

Type of Review: New Collection.

Agency: International Labor Affairs Bureau.

Title of Collection: Data collection for OCFT program evaluation.

OMB Control Number: 1290-0NEW.

Affected Public: International organizations, for-profit and not-for-profit institutions, individual households.

Estimated Total Annual Respondents: 309.

Total Annual Responses: This is a one-time data collection effort.

Estimated Total Annual Burden Hours: 845 hours.

Estimated Time per Response: 30 minutes for e-mail survey; 90 minutes for interviews; 90 minutes for focus groups.

Frequency: One time only.

Total Burden Cost (capital/startup): $0.

Total Burden Cost (operating/maintenance): $0.

Comments submitted in response to this notice will be summarized and/or included in the request for Office of Management and Budget approval of the information collection request; they will also become a matter of public record.

Signed at Washington, DC, this 3rd day of April, 2008.
Lawrence W. Casey,
Associate Deputy Under Secretary for International Affairs, Bureau of International Labor Affairs.

[FR Doc. E8-7578 Filed 4-9-08; 8:45 am]

BILLING CODE 4510-28-P